FEDERAL COMMUNICATIONS COMMISSION

[OMB 3060-XXXX; FR ID 38901]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before August 23, 2021.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-XXXX.

Title: Advanced Methods to Target and Eliminate Unlawful Robocalls, Fourth Report and Order, CG Docket No. 17-59, FCC 20-187.

Type of Review: New information collection.

Form Number: N/A.

Total Annual Burden: 199,412 hours.

Respondents: Business or other for-profit entities.

Number of Respondents: 6,493 respondents; 582,434 responses.

Estimated Time per Response: .25 to 40 hours.

Frequency of Response: On-occasion reporting requirement, on-going reporting requirement and Third-party Disclosure requirement.

Total Annual Cost: No cost.

Obligation to Respond: Required to obtain or retain benefits. Statutory authority for these collections are contained in sections 4(i), 201, 202, 217, 227, 227b, 251(e), 303(r), and 403 of the Communications Act of 1934, as amended, 47 U.S.C. 154(i), 201, 202, 217, 227, 227b, 251(e), 303(r), 403.

Needs and Uses: This notice and request for comments seeks to establish a new information collection as it pertains to the Advanced Methods to Target and Eliminate Unlawful Robocalls Fourth Report and Order (“Call Blocking Fourth Report and Order”), FCC 20-187. Unwanted and illegal robocalls have long been the Federal Communication Commission's (“Commission”) top source of consumer complaints and one of the Commission's top consumer protection priorities. In 2019, Congress passed the Pallone-Thune Telephone Robocall Abuse Criminal Enforcement and Deterrence (TRACED) Act. In addition to directing the Commission to mandate adoption of caller ID authentication technology and encourage voice service providers to block calls by establishing safe harbors, the TRACED Act directs the Commission to ensure that both consumers and callers are provided with transparency and effective redress when calls are blocked in error. In the Call Blocking Fourth Report and Order, the Commission took several steps to better protect consumers from unwanted and illegal robocalls, and implement the TRACED Act. The Commission expanded the existing safe harbor for blocking of calls, established affirmative requirements to ensure that voice service providers better police their networks against illegal calls, and adopted several transparency and redress requirements to ensure that erroneous blocking can be quickly identified and remedied.

Call Blocking Fourth Report and Order, FCC 20-187, Paras. 22-31, 47 CFR 64.1200(n)(2)

A voice service provider must: . . . Take steps to effectively mitigate illegal traffic when it receives actual written notice of such traffic from the Commission through its Enforcement Bureau. In providing notice, the Enforcement Bureau shall identify with as much particularity as possible the suspected traffic; provide the basis for the Enforcement Bureau's reasonable belief that the identified traffic is unlawful; cite the statutory or regulatory provisions the suspected traffic appears to violate; and direct the voice service provider receiving the notice that it must comply with this section. Each notified provider must promptly investigate the identified traffic. Each notified provider must then promptly report the results of its investigation to the Enforcement Bureau, including any steps the provider has taken to effectively mitigate the identified traffic or an explanation as to why the provider has reasonably concluded that the identified calls were not illegal and what steps it took to reach that conclusion. Should the notified provider find that the traffic comes from an upstream provider with direct access to the U.S. Public Switched Telephone Network, that provider must promptly inform the Enforcement Bureau of the source of the traffic and, if possible, take steps to mitigate this traffic.

The first portion of the new information collection for which OMB approval is sought comes from the affirmative obligation adopted in the Call Blocking Fourth Report and Order that voice service providers effectively mitigate illegal traffic when notified of such traffic by the Commission's Enforcement Bureau. In adopting this requirement as well as the other affirmative obligations, the Commission made clear that, while most blocking is done by terminating voice service providers, originating and intermediate voice service providers are integral to stopping illegal calls. This requirement in particular gives the Commission an important tool in the fight to stop illegal calls.

Call Blocking Fourth Report and Order, FCC 20-187, Paras. 62-70, 47 CFR 64.1200(k)(10)

Any terminating provider that blocks calls on an opt-out or opt-in basis, either itself or through a third-party blocking service, must provide, at the request of the subscriber to a number, at no additional charge and within 3 business days of such a request, a list of calls to that number, including the date and time of the call and the calling number, that the terminating provider or its designee blocked within the 28 days prior to the request.

The second portion of the new information collection for which OMB approval is sought comes from the requirement in the Call Blocking Fourth Report and Order that any terminating voice service provider that blocks calls on an opt-in or opt-out basis must provide, on the request of the subscriber to a particular number, a list of all calls intended for that number that the voice service provider or its designee has blocked. The list must include the prior 28 days of blocked calls and must be provided to the subscriber within 3 business days. The TRACED Act expressly directs the Commission to ensure that both consumers and callers are provided with transparency. In the Call Blocking Fourth Report and Order, the Commission determined that, while opt-in or opt-out blocking must already be disclosed to consumers, a consumer may be unaware that particular calls are blocked absent such a list. Consumers can use the list to determine whether to opt out of blocking services or reach out to callers whose calls may have been blocked.

Federal Communications Commission.
Marlene Dortch,
Secretary, Office of the Secretary.

[FR Doc. 2021-15709 Filed 7-22-21; 8:45 am]

BILLING CODE 6712-01-P